DEPARTMENT OF LABOR

Office of the Secretary

Agency Information Collection Activities; Submission for OMB Review; Comment Request; Occupational Safety and Health Onsite Consultation Agreements

ACTION: Notice of availability; request for comments.

SUMMARY: The Department of Labor (DOL) is submitting the Occupational Safety and Health Administration (OSHA) sponsored information collection request (ICR) revision titled, “Occupational Safety and Health Onsite Consultation Agreements,” to the Office of Management and Budget (OMB) for review and approval for use in accordance with the Paperwork Reduction Act (PRA) of 1995. Public comments on the ICR are invited.

DATES: The OMB will consider all written comments received on or before December 5, 2018.

ADDRESSES: A copy of this ICR with applicable supporting documentation; including a description of the likely respondents, proposed frequency of response, and estimated total burden may be obtained free of charge from the RegInfo.gov website at http://www.reginfo.gov/public/do/PRAViewICR?ref_nbr=201801-1218-004 or by contacting Michel Smyth by telephone at 202-693-4129, TTY 202-693-8064, (these are not toll-free numbers) or sending an email to DOL_PRA_PUBLIC@dol.gov.

Submit comments about this request by mail to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

SUPPLEMENTARY INFORMATION: This ICR seeks approval under the PRA for revisions to the Occupational Safety and Health Onsite Consultation Agreements information collection. The OSHA Onsite Consultation Service Program offers free and confidential advice to small and medium-sized businesses in all States across the country, with priority given to high-hazard worksites. The requirements specified in the Onsite Consultation regulations for cooperative agreements, 29 CFR part 1908, are necessary to ensure uniform delivery of onsite consultation services nationwide. The regulatory procedures specify the activities carried out by State Onsite Consultation Programs funded by the Federal government, as well as the responsibilities of employers who receive onsite consultation services. This information collection has been classified as a revision, because the OSHA is making minor edits to the Safety and Health Program Assessment Worksheet, Form OSHA-33, that reflect new terminology and revised requirements associated with the revised 2012 OSHA Hazard Communication Standard, 29 CFR 1910.1200. Occupational Safety and Health Act of 1970 sections 7(c)(1) and 21(c) authorize this information collection. See 29 U.S.C. 656(c)(1) and 670(c).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1218-0110. The DOL notes that existing information collection requirements submitted to the OMB receive a month-to-month extension while they undergo review. New requirements would only take effect upon OMB approval. For additional substantive information about this ICR, see the related notice published in the Federal Register on March 30, 2018 (83 FR 13792).

Interested parties are encouraged to send comments to the address shown in the ADDRESSES section within thirty (30) days of publication of this notice in the Federal Register. In order to help ensure appropriate consideration, comments should mention OMB Control Number 1218-0110. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OSHA.

Title of Collection: Occupational Safety and Health Onsite Consultation Agreements.

OMB Control Number: 1218-0110.

Affected Public: State, Local, and Tribal Governments.

Total Estimated Number of Respondents: 22,767.

Total Estimated Number of Responses: 94,225.

Total Estimated Annual Time Burden: 214,750 hours.

Total Estimated Annual Other Costs Burden: $0.

Authority: 44 U.S.C. 3507(a)(1)(D).

Michel Smyth,
Departmental Clearance Officer.

[FR Doc. 2018-24153 Filed 11-2-18; 8:45 am]

BILLING CODE 4510-26-P